Proclamation 10704 of February 29, 2024

Irish-American Heritage Month, 2024

By the President of the United States of America

A Proclamation

During Irish-American Heritage Month, we honor our Irish ancestors, all those who carry on their legacies, and the values that have always bound Ireland and the United States together.

These values—including determination, decency, and dignity—have been passed down from generation to generation in families like my own and have been grafted into the American character. Last year, I had the honor of visiting the home of some of my Irish ancestors, including the Blewitts of County Mayo and the Finnegans of County Louth. As I traveled across Ireland, I learned the true meaning of the Gaelic expression, “a hundred thousand welcomes.” I was reminded that everything between Ireland and America runs deep—from our history and sorrow to our future and joy. But more than anything, hope is what beats in the hearts of all of our people.

For centuries—even during times of darkness and despair—hope has kept us marching forward toward a better future. It is what led so many of our Irish ancestors to leave the only place they had ever called home and seek a new beginning in the United States. It is what drove generations of Irish immigrants to help build the foundations of America with grit and persistence, even as they endured discrimination and were denied opportunity. It is what continues to drive tens of millions of Irish Americans across our country to stand up for greater dignity, liberty, and possibilities for all. As we celebrate the 100th anniversary of United States-Irish diplomatic relations this year, hope remains the bedrock of our partnership, as evidenced by our work together to stand with the brave people of Ukraine in the face of Russian aggression, combat the climate crisis, and advance workers' rights across both of our nations.

In the years ahead, I look forward to strengthening the partnership and friendship between the people of Ireland and America even further. United by history, heritage, and hope, nothing is beyond our reach.

NOW, THEREFORE, I, JOSEPH R. BIDEN JR., President of the United States of America, by virtue of the authority vested in me by the Constitution and the laws of the United States, do hereby proclaim March 2024 as Irish-American Heritage Month. I call upon all Americans to celebrate the achievements and contributions of Irish Americans to our Nation with appropriate ceremonies, activities, and programs.

IN WITNESS WHEREOF, I have hereunto set my hand this twenty-ninth day of February, in the year of our Lord two thousand twenty-four, and of the Independence of the United States of America the two hundred and forty-eighth.

[FR Doc. 2024-04813

Filed 3-4-24; 11:15 am]

Billing code 3395-F4-P